NATIONAL CREDIT UNION ADMINISTRATION

Sunshine Act; Meetings

Time and Date: 10 a.m., Thursday, November 20, 2003.

Place: Board Room, 7th Floor, Room 7047, 1775 Duke Street, Alexandria, VA 22314-3428.

Status: Open.

Matters to be Considered: 1. NCUA's Annual Performance Plan for 2004.

2. Advance Notice of Proposed Rulemaking: Interagency Proposal to Consider Alternative Forms of Privacy Notices.

3. NCUA's Operating Budget for 2004/2005.

4. NCUA's Overhead Transfer Rate.

5. NCUA's Operating Fee Scale for 2004.

Recess: 11:15 a.m.

Time and Date: 11:30 a.m., Thursday, November 20, 2003.

Place: Board Room, 7th Floor, Room 7047, 1775 Duke Street, Alexandria, VA 22314-3428.

Status: Closed.

Matters to be Considered: 1. Administrative Action under section 206 and 208 of the Federal Credit Union Act. Closed pursuant to Exemptions (5), (8), (A)(ii), and 9(B).

2. Administrative Action under part 708 of NCUA's Rules and Regulations. Closed pursuant to Exemption (8).

Becky Baker,
Secretary of the Board.

[FR Doc. 03-28859 Filed 11-13-03; 8:45 am]

BILLING CODE 7535-01-M